CONSUMER PRODUCT SAFETY COMMISSION

Sunshine Act Meeting

TIME AND DATE: Tuesday, January 30, 2001 10:00 a.m.

LOCATION: Room 410, East-West Towers, 4330 East-West Highway, Bethesda, Maryland.

STATUS: Open to the Public.

MATTER TO BE CONSIDERED:

Petition HP 00-3 Candle Wicks

The staff will brief the Commission on Petition HP 00-3, filed by Public Citizen and jointly from the National Apartment Association and the National Multi-Housing Council, requesting a ban of candle wicks containing lead and of candles containing such wicks.

For a recorded message containing the latest agenda information, call (301) 504-0709.

CONTACT PERSON FOR ADDITIONAL INFORMATION: Sadye E. Dunn, Office of the Secretary, 4330 East-West Highway, Bethesda, MD 20207 (301) 504-0800.

Dated: January 18, 2001.
Sadye E. Dunn,
Secretary.

[FR Doc. 01-2194 Filed 1-19-01; 4:08 pm]

BILLING CODE 6355-01-M